DEPARTMENT OF EDUCATION

President's Commission on Excellence in Special Education

AGENCY: President's Commission on Excellence in Special Education, Department of Education.

ACTION: Notice of public meeting and hearings.

SUMMARY: This notice provides the dates and city locations of each meeting and hearing of the President's Commission on Excellence in Special Education (Commission). Notice of these meetings and hearings is required under section 10(a)(2) of the Federal Advisory Committee Act in order to notify the public of their opportunity to attend. Members of the general public may observe and listen to Commission proceedings at each meeting and hearing. The Commission may choose to provide a public comment period where members of the public may offer comments before the Commission. The agenda of each meeting, including whether members of the general public will have an opportunity to offer comments before the Commission, will be posted on the Commission's website.

Full Commission meetings will be held in Houston, Texas; Miami, Florida; and Washington, DC. Task force hearings will be held in Houston, Texas; Denver, Colorado; Des Moines, Iowa; San Diego, California; Los Angeles, California; Miami, Florida; New York City, New York; and Nashville, Tennessee. Task force meeting may not consist of all members of the Commission.

Date | City
February 25-27 | Houston, Texas.
March 6 | Denver, Colorado.
March 13 | Des Moines, Iowa.
March 20 | San Diego, California.
March 21 | Los Angeles, California.
April 9 and 10 | Miami, Florida.
April 16 | New York, New York.
April 18 | Nashville Tennessee.
May 30 and 31 | Washington, DC.

ADDRESSES: At this time, the exact address where meetings and hearings will be held within each city is not determined. The Commission's Web site will list the location of each meeting and hearing as soon as locations are determined.

FOR FURTHER INFORMATION CONTACT: C. Todd Jones, Executive Director, at 202-208-1312 (telephone) or Troy R. Justesen, Deputy Executive Director, at 202-219-0704 (telephone), (202) 208-1593 (fax), Troy.justensen@ed.gov(e-mail) or via the Commission's Web site address at http://www.ed.gov/inits/commissionsboards/whspecialeducation/sitemap.htm1.

SUMMARY INFORMATION: The Commission was established under Executive Order 13227 (October 2, 2001) to collect information and study issues related to Federal, State, and local special education programs with the goal of recommending policies for improving the educational performance of students with disabilities. In furtherance of its duties, the Commission shall invite experts and members of the public to provide information and guidance. The Commission shall prepare and submit a report to the President outlining its findings and recommendations.

Individuals who will need accommodations for a disability in order to attend the meeting (i.e., assistive listing devices, materials in alternative formats) should notify Troy R. Justensen, at (202) 219-0704, by no later than two weeks prior to the meeting or hearing in which an accommodation is needed. Sign language interpreter service will be provided at each meeting. We will attempt to meet requests after this deadline, but cannot guarantee availability of the requested accommodation. The meeting site will be accessible to individuals with mobility impairments, including those who use wheelchairs.

Records of all Commission proceedings are available for public inspection at the President's Commission on Excellence in Special Education, 80 F Street, NW., Suite 408; Washington, DC 20208 from 9 a.m. to 5 p.m. (EST). Transcripts of each meeting will be available on the Commission's website as soon as possible after each meeting.

Dated: January 31, 2002.
C. Todd Jones,
Executive Director & Delegated functions of Assistant Secretary for Office for Civil Rights.

[FR Doc. 02-2678 Filed 2-4-02; 8:45 am]

BILLING CODE 4000-01-M